DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Financial Assistance Information Collection, OMB Control Number 1910-0400. This information collection request covers information necessary to administer and manage DOE's financial assistance programs.

DATES: Comments regarding this collection must be received on or before July 8, 2009. If you anticipate that you will be submitting comments, but find it difficult to do so within the period of time allowed by this notice, please advise the OMB Desk Officer of your intention to make a submission as soon as possible. The Desk Officer may be telephoned at 202-395-4650.

ADDRESSES: Written comments should be sent to the following: Denise Clarke, Procurement Analyst, MA-612/L'Enfant Plaza Building, U.S. Department of Energy, 1000 Independence Avenue, SW., Washington, DC, 20585-1615, deniset.clarke@hq.doe.gov.

FOR FURTHER INFORMATION CONTACT: Denise Clarke at the above address, or by telephone at (202) 287-1748.

SUPPLEMENTARY INFORMATION: This information collection request contains: (1) OMB No. 1910-0400 (Renewal); (2) Information Collection Request Title: Financial Assistance Information Collection (3) Purpose: This package contains information collections necessary for the solicitation, award, administration, and closeout of grants and cooperative agreements (4) Estimated Number of Respondents 59,217 (5) Estimated Total Burden Hours: 926,022 (6) Number of Collections: The information collection request contains 16 information and/or recordkeeping requirements.

Statutory Authority: Federal Grant and Cooperative Agreement Act, 31 U.S.C. 6301-6308.

Issued in Washington, DC on June 1, 2009.
Edward R. Simpson,
Director, Office of Procurement and Assistance Management, Department of Energy.

[FR Doc. E9-13321 Filed 6-5-09; 8:45 am]

BILLING CODE 6450-01-P